FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than September 28, 2001.

A. Federal Reserve Bank of Cleveland (Paul Kaboth, Banking Supervision) 1455 East Sixth Street, Cleveland, Ohio 44101-2566:

1. Second Bancorp Incorporated, Warren, Ohio; to merge with Commerce Exchange Corporation, Beachwood, Ohio, and thereby indirectly acquire Commerce Exchange Bank, Beachwood, Ohio.

2. Whitaker Bank Corporation of Kentucky, Lexington, Kentucky; to acquire 100 percent of the voting shares of Citizens National Bank & Trust of Hazard, Hazard, Kentucky.

B. Federal Reserve Bank of Atlanta (Cynthia C. Goodwin, Vice President) 1000 Peachtree Street, N.E., Atlanta, Georgia 30309-4470:

1. Grand Bankshares, Inc., West Palm Beach, Florida; to become a bank holding company by acquiring 100 percent of the voting shares of Grand Bank of Florida, West Palm Beach, Florida.

2. The Colonial BancGroup, Inc., Montgomery, Alabama; to merge with Manufacturers Bancshares, Inc., Tampa, Florida, and thereby indirectly acquire Manufacturers Bank of Florida, Tampa, Florida.

C. Federal Reserve Bank of Chicago (Phillip Jackson, Applications Officer) 230 South LaSalle Street, Chicago, Illinois 60690-1414:

1. Capitol Bancorp, Inc., Lansing, Michigan; Sun Community Bancorp Limited, Phoenix, Arizona; and Nevada Community Bancorp Limited, Las Vegas, Nevada, to acquire 51 percent of the voting shares of Bank of Las Vegas, Las Vegas, Nevada.

2. Capitol Bancorp, Inc. , Lansing, Michigan; Sun Community Bancorp Limited, Phoenix, Arizona; and First California Northern Bancorp, Napa, California; to acquire 51 percent of the voting shares of Napa Community Bank, Napa, California (in organization). First California Northern Bancorp also has applied to become a bank holding company.

D. Federal Reserve Bank of San Francisco (Maria Villanueva, Consumer Regulation Group) 101 Market Street, San Francisco, California 94105-1579:

1. Greater Bay Bancorp, Palo Alto, California; to merge with SJNB Financial Corp., San Jose, California, and thereby indirectly acquire San Jose National Bank, San Jose, California.

Board of Governors of the Federal Reserve System, August 28, 2001.
Robert deV. Frierson,
Deputy Secretary of the Board.

[FR Doc. 01-22077 Filed 8-31-01; 8:45 am]

BILLING CODE 6210-01-S